DEPARTMENT OF AGRICULTURE

Office of the Secretary

Adjustment to Fiscal Year 2021 Specialty Sugar Tariff-Rate Quota Tranche Opening Date

AGENCY: Office of the Secretary, USDA.

ACTION: Notice.

SUMMARY: The Office of the Secretary of the Department of Agriculture (the Secretary) is providing notice of a change in the opening date for the fifth tranche of fiscal year (FY) 2021 (October 1, 2020-September 30, 2021) specialty sugar tariff-rate quota (TRQ). The fifth tranche, scheduled to open on July 15, will now open on April 5, 2021.

DATES: This notice is applicable on April 2, 2021.

FOR FURTHER INFORMATION CONTACT: Souleymane Diaby, Multilateral Affairs Division, Trade Policy and Geographic Affairs, Foreign Agricultural Service, U.S. Department of Agriculture, Stop 1070, 1400 Independence Avenue SW, Washington, DC 20250-1070; by telephone (202) 720-2916; or by email Souleymane.Diaby@usda.gov.

SUPPLEMENTARY INFORMATION: Pursuant to Additional U.S. Note 5 to Chapter 17 of the Harmonized Tariff Schedule of the United States (HTSUS), the United States maintains TRQs for imports of raw cane and refined sugar. On July 9, 2020, the Secretary of Agriculture established the FY 2021 specialty sugar TRQ at 141,656 MTRV, to be administered in the following way. The first tranche, totaling 1,656 MTRV, was to open October 1, 2020. All specialty sugars were eligible for entry under this tranche. The second tranche of 40,000 MTRV was to open on October 8, 2020. The third tranche of 40,000 MTRV was to open on January 21, 2021. The fourth tranche of 30,000 MTRV was to open on April 15, 2021. The fifth tranche of 30,000 MTRV was to open on July 15, 2021. The second, third, fourth, and fifth tranches were reserved for organic sugar and other specialty sugars not currently produced commercially in the United States or reasonably available from domestic sources. See 85 FR 41226.

The Secretary is changing the opening date of the fifth tranche of 30,000 MTRV from July 15, 2021, to April 5, 2021. This action is needed to accommodate current demand for organic sugar and other specialty sugars, which exceeds current supplies.

Jason Hafemeister,
Acting Deputy Under Secretary, Trade and Foreign Agricultural Affairs.

[FR Doc. 2021-06809 Filed 4-1-21; 8:45 am]

BILLING CODE 3410-10-P